DEPARTMENT OF THE INTERIOR

National Park Service

[NPS-WASO-NAGPRA-10981; 2200-1100-665]

Notice of Inventory Completion: Longyear Museum of Anthropology, Colgate University, Hamilton, NY

AGENCY: National Park Service, Interior.

ACTION: Notice.

SUMMARY: The Longyear Museum of Anthropology has completed an inventory of human remains in consultation with the appropriate Indian tribes, and has determined that there is no cultural affiliation between the remains and any present-day Indian tribe. Representatives of any Indian tribe that believes itself to be culturally affiliated with the human remains may contact the museum. Disposition of the human remains to the Indian tribe stated below may occur if no additional requestors come forward.

DATES: Representatives of any Indian tribe that believes it has a cultural affiliation with the human remains should contact the Longyear Museum of Anthropology at the address below by September 27, 2012.

ADDRESSES: Dr. Jordan Kerber, Longyear Museum of Anthropology, Department of Sociology and Anthropology, Colgate University, 13 Oak Dr., Hamilton, NY 13346, telephone (315) 228-7559.

SUPPLEMENTARY INFORMATION: Notice is here given in accordance with the Native American Graves Protection and Repatriation Act (NAGPRA), 25 U.S.C. 3003, of the completion of an inventory of human remains in the possession of the Longyear Museum of Anthropology, Colgate University, Hamilton, NY. The human remains were removed from an unknown location in Marion County, OH.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Longyear Museum of Anthropology professional staff in consultation with representatives of the Little Traverse Bay Bands of Odawa Indians, Michigan. Letters were sent to the following tribes, inviting them to consult: Absentee-Shawnee Tribe of Indians of Oklahoma; Bad River Band of the Lake Superior Tribe of Chippewa Indians of the Bad River Reservation, Wisconsin; Chippewa-Cree Indians of the Rocky Boy's Reservation, Montana; Delaware Tribe of Indians, Oklahoma; Eastern Shawnee Tribe of Oklahoma; Grand Traverse Band of Ottawa and Chippewa Indians, Michigan; Keweenaw Bay Indian Community, Michigan; Lac Courte Oreilles Band of Lake Superior Chippewa Indians of Wisconsin; Lac du Flambeau Band of Lake Superior Chippewa Indians of the Lac du Flambeau Reservation of Wisconsin; Lac Vieux Desert Band of Lake Superior Chippewa Indians, Michigan; Miami Tribe of Oklahoma; Minnesota Chippewa Tribe, Minnesota (Six component reservations: Bois Forte Band (Nett Lake); Fond du Lac Band; Grand Portage Band; Leech Lake Band; Mille Lacs Band; White Earth Band); Ottawa Tribe of Oklahoma; Peoria Tribe of Indians of Oklahoma; Pokagon Band of Potawatomi Indians, Michigan and Indiana; Red Cliff Band of Lake Superior Chippewa Indians of Wisconsin; Red Lake Band of Chippewa Indians, Minnesota; Saginaw Chippewa Indian Tribe of Michigan; St. Croix Chippewa Indians of Wisconsin; Sault Ste. Marie Tribe of Chippewa Indians of Michigan; Seneca-Cayuga Tribe of Oklahoma; Shawnee Tribe, Oklahoma; Sokaogon Chippewa Community, Wisconsin; Turtle Mountain Band of Chippewa Indians of North Dakota; and the Wyandotte Nation, Oklahoma.

History and Description of the Remains

At an unknown date, human remains representing, at minimum, two individuals were removed from an unknown location described as “Mound Builder grave, Mound B” in Marion County, OH. The human remains were acquired by the Longyear Museum of Anthropology between 1948 and 1979, and accessioned as part of the Howe Collection (catalog number A372). The human remains were subsequently assigned index number 464 in the Colgate Collection database. No known individuals were identified. No associated funerary objects are present.

Determinations Made by the Longyear Museum of Anthropology

Officials of the Longyear Museum of Anthropology have determined that:

• Based on the presence of Native American artifacts in the Howe Collection, the description of the site from which the human remains were recovered, and the records in the Longyear Museum of Anthropology, the human remains are Native American.

• Pursuant to 25 U.S.C. 3001(2), a relationship of shared group identity cannot be reasonably traced between the Native American human remains and any present-day Indian tribe.

• The 1795 Treaty of Greenville (7 Stat. 49, December 2, 1795), indicates that the land from which the Native American human remains were removed is the aboriginal land of the Absentee-Shawnee Tribe of Indians of Oklahoma; Delaware Tribe of Indians, Oklahoma; Eastern Shawnee Tribe of Oklahoma; Little Traverse Bay Bands of Odawa Indians, Michigan; Shawnee Tribe, Oklahoma; and the Wyandotte Nation, Oklahoma. The Little Traverse Bay Bands of Odawa Indians, Michigan, have at least two signatories on the 1795 Treaty of Greenville (La Malice and Keenoshameek), which ceded land to the United States Government, including land that is now Marion County, OH.

• Pursuant to 25 U.S.C. 3001(9), the human remains described in this notice represent the physical remains of two individuals of Native American ancestry.

• Pursuant to 43 CFR 10.11(c)(1), the disposition of the human remains is to the Little Traverse Bay Bands of Odawa Indians, Michigan.

Additional Requestors and Disposition

Representatives of any Indian tribe that believes itself to be culturally affiliated with the human remains or any other Indian tribe that believes it satisfies the criteria in 43 CFR 10.11(c)(1) should contact Dr. Jordan Kerber, Longyear Museum of Anthropology, Department of Sociology and Anthropology, Colgate University, 13 Oak Dr., Hamilton, NY 13346, telephone (315) 228-7559, before September 27, 2012. Disposition of the human remains to the Little Traverse Bay Bands of Odawa Indians, Michigan, may proceed after that date if no additional requestors come forward.

The Longyear Museum of Anthropology is responsible for notifying the Absentee-Shawnee Tribe of Indians of Oklahoma; Delaware Tribe of Indians, Oklahoma; Eastern Shawnee Tribe of Oklahoma; Little Traverse Bay Bands of Odawa Indians, Michigan; Shawnee Tribe, Oklahoma; and the Wyandotte Nation, Oklahoma, that this notice has been published.

Dated: July 31, 2012.
Melanie O'Brien,
Acting Manager, National NAGPRA Program.

[FR Doc. 2012-20953 Filed 8-27-12; 8:45 am]

BILLING CODE 4312-50-P